DEPARTMENT OF COMMERCE

National Oceanic and Atmospheric Administration

Notice of Cashes Ledge Site Added to the Inventory of Areas for Possible Designation as National Marine Sanctuaries

AGENCY: Office of National Marine Sanctuaries (ONMS), National Ocean Service (NOS), National Oceanic and Atmospheric Administration (NOAA), Department of Commerce.

ACTION: Notice.

SUMMARY: On June 13, 2014, NOAA published a final rule establishing the Sanctuary Nomination Process, allowing communities to submit nominations to NOAA for consideration as new national marine sanctuaries. The rule outlined the review process, national significance criteria, and management considerations that NOAA uses to evaluate nominations for inclusion in the inventory of areas that could eventually be considered for designation. The rule also states that NOAA will publish a Federal Register notice when areas have been added to the inventory of successful nominations. This notice announces that NOAA has added the Cashes Ledge area to the inventory; the agency is not moving forward with a designation at this time.

DATES: Applicable January 3, 2025.

ADDRESSES: Matt Brookhart, Eastern Regional Director, NOAA Office of National Marine Sanctuaries, 1315 East-West Highway, Silver Spring, Maryland 20910, and at https://nominate.noaa.gov/nominations/.

FOR FURTHER INFORMATION CONTACT: Matt Brookhart, Eastern Regional Director, NOAA Office of National Marine Sanctuaries, matt.brookhart@noaa.gov, or at 301-452-4177.

SUPPLEMENTARY INFORMATION:

I. Background

The National Marine Sanctuaries Act (NMSA) (16 U.S.C. 1431 et seq.) authorizes the Secretary of Commerce to identify and designate as national marine sanctuaries areas of the marine environment, including the Great Lakes, which are of special national significance; to manage these areas as the National Marine Sanctuary System; and to provide for the comprehensive and coordinated conservation and management of these areas and the activities affecting them in a manner which complements existing regulatory authorities. Section 303 of the NMSA, 16 U.S.C. 1433, provides national marine sanctuary designation standards and factors required in determining whether an area qualifies for consideration as a potential national marine sanctuary, and section 304, 16 U.S.C. 1434, establishes procedures for national marine sanctuary designation and implementation. Regulations implementing the NMSA and each national marine sanctuary are codified in part 922 of title 15 of the Code of Federal Regulations.

On June 13, 2014, NOAA issued a final rule that established the Sanctuary Nomination Process and finalized the national significance criteria and management considerations it will use to review new national marine sanctuary nominations (79 FR 33851). If NOAA determines a nomination adequately meets the final criteria and considerations, it may place that nomination in an inventory of areas to consider for designation as a national marine sanctuary. NOAA also stated that it would send a letter of notification to the nominator and publish a Federal Register notice identifying areas that have been added to the inventory of successful nominations. This notice documents that NOAA is adding the Cashes Ledge area to the inventory.

NOAA is not designating any new national marine sanctuaries with this action. Any proposed designations of areas on the inventory would be conducted by NOAA as a separate process under the NMSA, Administrative Procedure Act (5 U.S.C. Subchapter II), National Environmental Policy Act (42 U.S.C. 4321 et seq.), and other applicable authorities.

II. Cashes Ledge Sanctuary Nomination Added to the Inventory

Conservation Law Foundation (CLF) nominated the Cashes Ledge area to be considered for designation as a national marine sanctuary on July 29, 2024. CLF identified a 766 mi² area around Cashes Ledge, which is located 90 miles east of Portsmouth, New Hampshire in the Gulf of Maine. This area includes not just Cashes Ledge, but also Parker Ridge and Sigsbee Ridge, which collectively form a 32 mile long granite ridge that rises sharply from the sea floor and runs parallel to the coastline. CLF nominated the Cashes Ledge area for consideration as a national marine sanctuary to protect its nationally significant ecological resources. These include dense kelp forests, habitat for species such as cod, Atlantic wolffish, halibut, and flounder, and globally significant populations of marine mammals, such as North Atlantic right whales, and seabirds, such as Atlantic puffins. CLF also nominated the Cashes Ledge area for consideration in order to better protect the Gulf of Maine ecosystem, which New England's coastal communities depend on economically for tourism, shipping, offshore energy, and recreational and commercial fishing.

Based on information included in the nomination, including the comment letters submitted with the nomination, as well as NOAA's internal analysis, NOAA has determined that the nomination is responsive to the 11 national significance criteria and management considerations it uses to review nominations. Therefore, this notice serves to inform the public of the agency's decision to add the Cashes Ledge area to the inventory of successful nominations.

At this time, NOAA is not initiating a sanctuary designation process. In adding the Cashes Ledge area to the inventory, NOAA does not endorse or imply endorsement of any specific boundaries, regulations or management measures in the Cashes Ledge nomination. Should NOAA decide to initiate a sanctuary designation process for Cashes Ledge in the future, it would establish a highly public, multi-year process for exploring possibilities for sanctuary boundaries, regulations and programs in partnership with other Federal agencies, Tribal Nations, State governments, stakeholders and the public.

III. Classification

A. National Environmental Policy Act (NEPA)

NOAA has concluded that the action of adding the Cashes Ledge area to the inventory of successful nominations will not have a significant effect, individually or cumulatively, on the human environment because this action is administrative in nature and does not designate or propose to designate any new national marine sanctuaries. NOAA has further determined that this action is not connected to a larger action, and does not involve extraordinary circumstances precluding the use of a categorical exclusion in accordance with NEPA (42 U.S.C. 4321 et seq.). Therefore, this action is categorically excluded from the requirement to prepare an environmental assessment or environmental impact statement, in accordance with NOAA Administrative Order 216-6A Environmental Review Procedures, and the NOAA NEPA Companion Manual. As defined in the NOAA NEPA Companion Manual, Appendix E, categorical exclusion category G7, the proposed action is a notice of administrative and procedural nature and for which any environmental effects are too broad and speculative to lend themselves to meaningful analysis at this time and will be subject later to the NEPA process, as applicable. Should NOAA decide to propose the designation of a national marine sanctuary, each individual national marine sanctuary designation process will be subject to case-by-case analysis, as required under NEPA and as outlined in section 304(a)(2)(A) of the NMSA.

Authority: 16 U.S.C. 1431 et seq.

John Armor,
Director, Office of National Marine Sanctuaries, National Ocean Service, National Oceanic and Atmospheric Administration.

[FR Doc. 2024-30702 Filed 1-3-25; 8:45 am]

BILLING CODE 3510-NK-P